DEPARTMENT OF COMMERCE

National Oceanic and Atmospheric Administration

[I.D 080403A]

Endangered Species; File No. 1397

AGENCY: National Marine Fisheries Service (NMFS), National Oceanic and Atmospheric Administration (NOAA), Commerce.

ACTION: Issuance of permit.

SUMMARY: Notice is hereby given that Dr. Jeanette Wyneken, Florida Atlantic University, 777 Glades Rd., Boca Raton, FL 33431, has been issued a permit to take green sea turtles (Chelonia mydas) for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320.

FOR FURTHER INFORMATION CONTACT: Patrick Opay, (301)713-1401 or Carrie Hubard, (301)713-2289.

SUPPLEMENTARY INFORMATION: On November 27, 2002, notice was published in the Federal Register (67 FR 70934) that a request for a scientific research permit to take green sea turtles had been submitted by the above-named individual. The requested permit has been issued under the authority of the Endangered Species Act of 1973, as amended (ESA; 16 U.S.C. 1531 et seq.) and the regulations governing the taking, importing, and exporting of endangered and threatened species (50 CFR parts 222-226).

The applicant will hand capture, handle, transport, temporarily hold, measure, weigh, sonic tag, paint a number on the carapace of, flipper tag, PIT tag, tissue sample, lavage, photograph, track, recapture and remove the sonic tag from, and release up to 10 green sea turtles annually. Although not included in the original permit application, NMFS received comments during the application review which recommended that the applicant flipper tag, PIT tag, and tissue biopsy each of the turtles captured during the proposed research. Tagging will facilitate individual identification of the turtles and provide information on migratory movements in the event of recapture by other researchers or stranding in the future. A biopsy sample will allow researchers to determine the genetic identity(s) of this group of animals, a priority research goal identified by NMFS. NMFS contacted the applicant to discuss these recommendations, and the applicant agreed to conduct these additional research activities. The purpose of the research is to determine the number and distribution of green sea turtles (Chelonia mydas) on shallow reef habitat located in Palm Beach County, FL as well as quantify their daily movements and establish what food and other resources of importance to this species are present there. The permit duration is 2 years.

Issuance of this permit, as required by the ESA, was based on a finding that such permit (1) was applied for in good faith, (2) will not operate to the disadvantage of the endangered species which is the subject of this permit, and (3) is consistent with the purposes and policies set forth in section 2 of the ESA.

Dated: August 19, 2003.
Jennifer Skidmore,
Acting Chief, Permits, Conservation and Education Division, Office of Protected Resources, National Marine Fisheries Service.

[FR Doc. 03-21721 Filed 8-25-03; 8:45 am]

BILLING CODE 3510-22-S